DEPARTMENT OF ENERGY

Federal Energy Regulatory Commission

[Docket No. CP04-29-000]

Transcontinental Gas Pipe Line Corporation; Notice of Request Under Blanket Authorization

December 16, 2003.

Take notice that on December 8, 2003, Transcontinental Gas Pipe Line Corporation (Transco), Post Office Box 1396, Houston, Texas 77251-1396, filed in Docket No. CP04-29-000, an application pursuant to sections 157.205 and 157.211 of the Commission's Regulations under the Natural Gas Act (NGA), for authorization to construct and operate a new delivery point for the City of Monroe, a North Carolina Municipal Corporation (City of Monroe), under Transco's blanket certificate issued in Docket No. CP82-426-000, all as more fully set forth in the application, which is on file with the Commission and open to public inspection.

Transco proposes to construct, own, and operate a delivery point in Iredell County, North Carolina, for a new gas transportation customer, City of Monroe. The proposed facilities are two 6-inch tap valve assemblies, a meter station with one 4-inch ultrasonic flow meter, two hundred feet of 6-inch inlet piping to the meter station, 4-inch bypass piping, 6-inch yard piping, 6-inch outlet piping from the meter station, pulsation dampener vessel, odorization system, electronic flow measurement, communications equipment, and other appurtenant facilities. Transco states that the City of Monroe will initially receive at the proposed delivery point up to 20,400 dekatherms per day of gas from Transco on a firm or interruptible basis at the new delivery point. The estimated total cost of Transco's proposed facilities is approximately $878,500 and the City of Monroe will reimburse Transco for all costs associated with such facilities. Transco also states that the City of Monroe currently is served by Piedmont Natural Gas Company but due to a variety of business reasons, the City of Monroe wants to have gas delivered to its municipal distribution system directly by the Transco system in the future.

Transco further states that the City of Monroe will construct, own and operate any appurtenant facilities to enable it to receive gas from Transco at the proposed delivery point and move the gas to its distribution system. The City of Monroe's facilities will include approximately 38.5 miles of 10-inch pipeline extending from Transco's proposed delivery point to the City of Monroe's existing distribution facilities.

Any questions concerning this application may be directed to Randall R. Conklin, General Counsel, Alfred E. White, Jr. Senior Attorney, or Scott C. Turkington, Director, Rates & Regulatory at (713) 215-2000.

This filing is available for review at the Commission or may be viewed on the Commission's Web site at http://www.ferc.gov, using the “eLibrary” link. Enter the docket number excluding the last three digits in the docket number field to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to section 7 of the Natural Gas Act.

Comment Date: January 30, 2004.

Magalie R. Salas,
Secretary.

[FR Doc. E3-00620 Filed 12-23-03; 8:45 am]

BILLING CODE 6717-01-P